FEDERAL ELECTION COMMISSION

Sunshine Act Notice

AGENCY: Federal Election Commission.

DATE AND TIME: Thursday, September 22, 2011 at 10 a.m.

PLACE: 999 E Street, N.W., Washington, DC (Ninth Floor).

STATUS: This meeting will be open to the public.

ITEMS TO BE DISCUSSED: Correction and Approval of the Minutes for the Meeting of September 1, 2011.

Draft Interpretive Rule on When Certain Independent Expenditures Are “Publicly Disseminated” for Reporting Purposes.

Draft Advisory Opinion 2011-16: Dimension4, Inc. PAC.

Agency Procedure Following the Submission of Probable Cause Briefs by the Office of General Counsel.

Draft Advanced Notice of Proposed Rulemaking Regarding Disclaimers on Certain Internet Communications.

Management and Administrative Matters.

Individuals who plan to attend and require special assistance, such as sign language interpretation or other reasonable accommodations, should contact Shelley Garr, Deputy Secretary, at (202) 694-1040, at least 72 hours prior to the hearing date.

PERSON TO CONTACT FOR INFORMATION: Judith Ingram, Press Officer, Telephone: (202) 694-1220.

Shawn Woodhead Werth,
Secretary and Clerk of the Commission.

[FR Doc. 2011-24169 Filed 9-16-11; 11:15 am]

BILLING CODE 6715-01-P